DEPARTMENT OF HOMELAND SECURITY

U.S. Citizenship and Immigration Services

[OMB Control Number 1615-NEW]

Agency Information Collection Activities; New Collection: Petition for Nonimmigrant Worker: E and TN Classifications; Petition for Nonimmigrant Worker: L Classifications; Petition for Nonimmigrant Worker: H-3, P, Q or R Classifications; and Petition for Nonimmigrant Worker: O Classifications

AGENCY: U.S. Citizenship and Immigration Services, Department of Homeland Security.

ACTION: 30-Day notice.

SUMMARY: The Department of Homeland Security (DHS), U.S. Citizenship and Immigration Services (USCIS) will be submitting the following information collection request to the Office of Management and Budget (OMB) for review and clearance in accordance with the Paperwork Reduction Act of 1995. The purpose of this notice is to allow an additional 30 days for public comments.

DATES: Comments are encouraged and will be accepted until March 17, 2022.

ADDRESSES: Written comments and/or suggestions regarding the item(s) contained in this notice, especially regarding the estimated public burden and associated response time, must be submitted via the Federal eRulemaking Portal website at http://www.regulations.gov under e-Docket ID number USCIS-2021-0016. All submissions received must include the OMB Control Number 1615-NEW in the body of the letter, the agency name and Docket ID USCIS-2021-0016.

FOR FURTHER INFORMATION CONTACT: USCIS, Office of Policy and Strategy, Regulatory Coordination Division, Samantha Deshommes, Chief, Telephone number (240) 721-3000 (This is not a toll-free number; comments are not accepted via telephone message.). Please note contact information provided here is solely for questions regarding this notice. It is not for individual case status inquiries. Applicants seeking information about the status of their individual cases can check Case Status Online, available at the USCIS website at http://www.uscis.gov, or call the USCIS Contact Center at (800) 375-5283; TTY (800) 767-1833.

SUPPLEMENTARY INFORMATION:

Comments

The information collection notice was previously published in the Federal Register on August 18, 2021, at 86 FR 46261 allowing for a 60-day public comment period. USCIS received nine comments in connection with the 60-day notice. USCIS made edits to the I-129E&TN, I-129L, I-129MISC, and I-129O Forms and Instructions in response to comments.

You may access the information collection instrument with instructions, or additional information by visiting the Federal eRulemaking Portal site at: http://www.regulations.gov and enter USCIS-2021-0016 in the search box. The comments submitted to USCIS via this method are visible to the Office of Management and Budget and comply with the requirements of 5 CFR 1320.12(c). All submissions will be posted, without change, to the Federal eRulemaking Portal at http://www.regulations.gov, and will include any personal information you provide. Therefore, submitting this information makes it public. You may wish to consider limiting the amount of personal information that you provide in any voluntary submission you make to DHS. DHS may withhold information provided in comments from public viewing that it determines may impact the privacy of an individual or is offensive. For additional information, please read the Privacy Act notice that is available via the link in the footer of http://www.regulations.gov.

Written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: New Collection.

(2) Title of the Form/Collection: Petition for Nonimmigrant Worker: E or TN Classifications; Petition for Nonimmigrant Worker: L Classifications; Petition for Nonimmigrant Worker: H-3, P, Q, or R Classifications; Petition for Nonimmigrant Worker: O Classifications.

(3) Agency form number, if any, and the applicable component of the DHS sponsoring the collection: I-129E&TN; I-129L; I-129MISC; I-129O; USCIS.

(4) Affected public who will be asked or required to respond, as well as a brief abstract: Primary: Business or other for-profit. USCIS will use the data collected on Form I-129E&TN to determine eligibility for the requested nonimmigrant classification and/or requests to extend or change nonimmigrant status. An employer may use this form to apply to USCIS for an employee to temporarily enter the United States and work as a TN nonimmigrant. A treaty trader, treaty investor, CNMI investor, employer, or applicant also uses this form to request an extension of stay in one of these classifications for an employee or for themselves, or to change the status of an employee currently in the United States as a nonimmigrant, or their own status if they are currently in the United States as a nonimmigrant, to E-1, E-2, E-2C, E-3, or TN. An employer also uses this form to request an extension of stay in E-3 classification for an employee, or to change the status of an employee currently in the United States to an E-3 nonimmigrant. An employee also uses this form to request an extension of stay in E-3 classification for themselves, or to change their own status to an E-3 nonimmigrant if they are currently in the United States in a nonimmigrant status.

USCIS will use the data collected on Form I-129L to determine a noncitizen's eligibility for L-1A and L-1B classification. The form is also used to determine whether, in advance of filing the individual L-1 petition, certain petitioning companies or organizations have established the required intracompany relationship for an LZ Blanket petition. An employer uses this form to petition USCIS for the noncitizen to temporarily enter the United States as a nonimmigrant. An employer also uses this form to request an extension of stay or change of status on behalf of the noncitizen. The form standardizes these requests and ensures that the information required for assessing eligibility is provided by the petitioner about itself and the noncitizen.

USCIS will use the data collected on Form I-129MISC to determine eligibility for the requested nonimmigrant classification and/or requests to extend or change nonimmigrant status. An employer (or agent or sponsor, where applicable) uses this form to petition USCIS for a noncitizen to temporarily enter as an H-3, P, Q, or R nonimmigrant. An employer (or agent or sponsor, where applicable) also uses this form to request an extension of stay of an H-3, P, Q, or R nonimmigrant worker or to change the status of a noncitizen currently in the United States as a nonimmigrant to H-3, P, Q, or R. The form standardizes requests for H-3, P, Q, or R nonimmigrant workers and ensures that basic information required for assessing eligibility is provided by the petitioner.

USCIS will use the data collected on Form I-129O to determine eligibility for the requested nonimmigrant classification and/or requests to extend or change nonimmigrant status. An employer or agent uses this form to petition USCIS for a noncitizen to temporarily enter as an O nonimmigrant. An employer or agent also uses this form to request an extension of stay of an O nonimmigrant worker or to change the status of a noncitizen currently in the United States in another nonimmigrant classification to O.

These forms also serve the purpose of standardizing petitions or applications filed for these various nonimmigrant classifications and ensuring that basic information required for assessing eligibility is provided by the petitioner or applicant. They also assist USCIS in compiling information required by Congress annually to assess effectiveness and utilization of certain nonimmigrant classifications.

(5) An estimate of the total number of respondents and the amount of time estimated for an average respondent to respond: The estimated total number of respondents for the information collection Form I-129E&TN is 12,709 and the estimated hour burden per response is 3 hours; the estimated total number of respondents for the information collection E-1/E-2 Classification Supplement to Form I-129E&TN is 3,573 and the estimated hour burden per response is 1.75 hours; the estimated total number of respondents for the information collection E-3 Classification Supplement to Form I-129E&TN is 1,787 and the estimated hour burden per response is 1 hour; the estimated total number of respondents for the information collection USMCA Supplement to Form I-129E&TN is 7,349 and the estimated hour burden per response is 0.5 hours.

The estimated total number of respondents for the information collection Form I-129L is 42,871 and the estimated hour burden per response is 3 hours.

The estimated total number of respondents for the information collection Form I-129MISC is 28,799 and the estimated hour burden per response is 3 hours; the estimated total number of respondents for the information collection H-3 Classification Supplement to Form I-129MISC is 1,449 and the estimated hour burden per response is 0.25 hours; the estimated total number of respondents for the information collection P Classification Supplement to Form I-129MISC is 18,524 and the estimated hour burden per response is 0.5 hours; the estimated total number of respondents for the information collection Q-1 International Cultural Exchange Alien Supplement to Form I-129MISC is 295 and the estimated hour burden per response is 0.167 hours; the estimated total number of respondents for the information collection R-1 Classification Supplement to Form I-129MISC is 8,531 and the estimated hour burden per response is 1 hour; the estimated total number of respondents for the information collection Attachment 1—Additional Beneficiary for Form I-129MISC is 6,491 and the estimated hour burden per response is 0.5 hours.

The estimated total number of respondents for the information collection Form I-129O is 25,516 and the estimated hour burden per response is 3 hours; the estimated total number of respondents for the information collection Attachment 1—Additional Beneficiary for Form I-129O is 1,189 and the estimated hour burden per response is 0.5 hours.

(6) An estimate of the total public burden (in hours) associated with the collection: The total estimated annual hour burden associated with this collection is 363,444 hours.

(7) An estimate of the total public burden (in cost) associated with the collection: The estimated total annual cost burden associated with this collection of information is $56,595,925.00.

Dated: February 9, 2022.
Samantha L. Deshommes,
Chief, Regulatory Coordination Division, Office of Policy and Strategy, U.S. Citizenship and Immigration Services, Department of Homeland Security.

[FR Doc. 2022-03161 Filed 2-14-22; 8:45 am]

BILLING CODE 9111-97-P